NUCLEAR REGULATORY COMMISSION

[Docket No. 72-10; NRC-2013-0207]

Northern States Power Company: Prairie Island Independent Spent Fuel Storage Installation

AGENCY: Nuclear Regulatory Commission.

ACTION: License amendment application; issuance.

SUMMARY: The U.S. Nuclear Regulatory Commission (NRC) reviewed an application by Northern States Power Company (NSPM) for amendment of Materials License No. SNM-2506 which authorizes NSPM to receive, possess, store, and transfer spent nuclear fuel and associated radioactive materials. The amendment sought to lower the allowed thermal conductance values for storage basket components utilized at the Prairie Island (PI) Independent Spent Fuel Storage Installation (ISFSI).

ADDRESSES: Please refer to Docket ID NRC-2013-0207 when contacting the NRC about the availability of information regarding this document. You may access publicly-available information related to this action by the following methods:

• Federal Rulemaking Web site: Go to http://www.regulations.gov and search for Docket ID NRC-2013-0207. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The Prairie Island License Amendment Request No. 8 package is available electronically in ADAMS under Accession No. ML13205A141.

• NRC's PDR: You may examine and purchase copies of public documents at the NRC's PDR, Room O1-F21, One White Flint North, 11555 Rockville Pike, Rockville, Maryland 20852.

FOR FURTHER INFORMATION CONTACT: Chris Allen, Office of Nuclear Material Safety and Safeguards, U.S. Nuclear Regulatory Commission, Washington, DC 20555-0001; telephone: 301-287-9225; email: William.Allen@nrc.gov.

SUPPLEMENTARY INFORMATION: By application dated July 17, 2013, as supplemented December 5, 2013, NSPM submitted to the NRC, in accordance with Part 72 of Title 10 of the Code of Federal Regulations (10 CFR), a request to amend Special Nuclear Materials License No. SNM-2506 for its PI ISFSI site located in Welch, Minnesota. License No. SNM-2506 authorizes NSPM to receive, possess, store, and transfer spent nuclear fuel and associated radioactive materials resulting from the operation of the PI Power Plant in an ISFSI at the power plant site for a term of 20 years. Specifically, the amendment proposed lowering the allowed thermal conductance values for components used to fabricate storage baskets utilized at the PI ISFSI.

The NRC issued a letter dated August 9, 2013, notifying NSPM that the application was acceptable for review. In accordance with 10 CFR 72.16, a Notice of Docketing was published in the Federal Register on September 16, 2013 (78 FR 56947). The Notice of Docketing included an opportunity to request a hearing and to petition for leave to intervene. No requests for a hearing or leave to intervene were submitted.

The NRC prepared a safety evaluation report (SER) to document its review and evaluation of the amendment request. In addition, the NRC evaluated an assertion by PI that the amendment request satisfied the categorical exclusion criteria specified in 10 CFR 51.22(c)(11). Under 10 CFR 51.22(c)(11), a categorical exclusion is allowed for amendments to materials licenses which involve changes to process operations or equipment provided that (i) there is no significant change in the types or significant increase in the amounts of any effluents that may be released offsite, (ii) there is no significant increase in individual or cumulative occupational radiation exposure, (iii) there is no significant construction impact, and (iv) there is no significant increase in the potential for or consequences from radiological accidents. As explained in the SER, the NRC determined that the license amendment satisfied the 10 CFR 51.22(c)(11) categorical exclusion criteria. Consequently, an Environmental Assessment and Finding of No Significant Impact are not required.

Upon completing its review, the staff determined the request complies with the standards and requirements of the Atomic Energy Act of 1954, as amended (the Act), as well as the NRC's rules and regulations. As required by the Act and the NRC's rules and regulations in 10 CFR Chapter I, the staff made the appropriate findings which are contained in the SER (ADAMS Accession No. ML14030A361). The NRC approved and issued Amendment No. 8 to Special Nuclear Materials License No. SNM-2506, held by NSPM for the receipt, possession, transfer, and storage of spent fuel and associated radioactive materials at the PI ISFSI. Pursuant to 10 CFR 72.46(d), the NRC is providing notice of the action taken. Amendment No. 8 was effective as of the date of issuance, March 10, 2014.

Dated at Rockville, Maryland, this 10th day of March 2014.
For the Nuclear Regulatory Commission.
Michele Sampson,
Chief, Licensing Branch, Division of Spent Fuel Storage and Transportation, Office of Nuclear Material Safety and Safeguards.

[FR Doc. 2014-05938 Filed 3-17-14; 8:45 am]

BILLING CODE 7590-01-P